DEPARTMENT OF THE INTERIOR

Office of the Secretary

[19XD4523WS/DWSN0000.000000/DS61500000/DP.61501]

Invasive Species Advisory Committee; Request for Nominations

AGENCY: Office of the Secretary, Interior

ACTION: Notice.

SUMMARY: The U.S. Department of the Interior, on behalf of the interdepartmental National Invasive Species Council (NISC), proposes to appoint new members to the Invasive Species Advisory Committee (ISAC). The Secretary of the Interior, acting as administrative lead, is requesting nominations for qualified persons to serve as members of the ISAC.

DATES: Nominations must be postmarked by April 29, 2024.

ADDRESSES: Electronic nominations packages are preferred and should be sent to invasive_species@ios.doi.gov. As necessary, hard copy nominations can be sent to Stanley W. Burgiel, Executive Director, National Invasive Species Council (OS/NISC), Regular/Express Mail: 1849 C Street NW, (Mailstop 3530), Washington, DC 20240.

FOR FURTHER INFORMATION CONTACT: Kelsey Brantley, NISC Operations Director, at (202) 208-4122, or by email at Kelsey_Brantley@ios.doi.gov.

SUPPLEMENTARY INFORMATION: Advisory Committee Scope and Objectives:

Executive Order (E.O.) 13112 authorized the National Invasive Species Council (NISC) to provide interdepartmental coordination, planning, and leadership for the Federal Government on the prevention, eradication, and control of invasive species. This authorization was reiterated in E.O. 13751. NISC is currently comprised of the senior-most leadership of thirteen Federal Departments/Agencies and three Executive Offices of the President. The Co-chairs of NISC are the Secretaries of the Interior, Agriculture, and Commerce. The Invasive Species Advisory Committee (ISAC) advises NISC. NISC is requesting nominations for individuals to serve on the ISAC.

NISC provides high-level interdepartmental coordination of Federal invasive species actions and works with other Federal and non-Federal groups to address invasive species issues at the national level. NISC duties, consistent with E.O. 13751, are to provide national leadership necessary to coordinate, sustain and expand efforts to safeguard the interest of the United States through the prevention, eradication and control of invasive species through the restoration of ecosystems and other assets impacted by invasive species. These duties and work priorities are further identified and outlined in NISC's annual Work Plans.

The Invasive Species Advisory Committee (ISAC) advises NISC. ISAC is chartered under the Federal Advisory Committee Act (FACA; 5 U.S.C. ch. 10). At the request of NISC, ISAC provides advice to NISC members on topics related to NISC's duties as described above, and emerging issues prioritized by the Administration. As a multi-stakeholder advisory committee, ISAC is intended to play a key role in recommending plans and actions to be taken in different sectors, geographies, and/or scales to accomplish the activities set forth in NISC Work Plans. It is hoped that, collectively, ISAC will represent the views of the broad range of individuals and communities knowledgeable of and affected by invasive species. NISC is requesting nominations for individuals to serve on the ISAC.

Membership Criteria:

Prospective members of ISAC should meet the following criteria:

1. knowledge related to the prevention, eradication, and/or control of invasive species;

2. familiarity with relevant Federal government programs and policy making procedures, as well as their interface with non-Federal entities;

3. experience in advising individuals in leadership positions;

4. demonstrated ability to network with and/or represent interests of their peer-community of interest; and

5. teamwork, project management, and communication skills.

ISAC members need not be scientists. Membership from a wide range of disciplines and professional sectors is encouraged. At this time, we are particularly interested in applications from representatives of: Non-Federal government agencies (e.g., State, Territorial, Tribal, local); academia, research institutions, and scientific societies; the private sector and industry/trade associations; landowners, farmers, ranchers, foresters and other resource users; public health specialists; regional organizations and citizen scientists, recreationists, and other public interest groups. Additionally, ISAC will include one representative from each of the following organizations, serving in a non-voting, “adviser” capacity: The Association of Fish and Wildlife Agencies (AFWA); the National Association of Conservation Districts (NACD); the National Association of State Departments of Agriculture (NASDA); the National Plant Board (NPB); The Native American Fish and Wildlife Society (NAFWS); and the North American Invasive Species Management Association (NAISMA).

After consultation with the other members of NISC, the Secretary of the Interior will appoint members to ISAC. Members will be selected based on their individual qualifications as detailed in their nomination package, as well as the overall need to achieve a balanced representation of viewpoints, subject matter expertise, regional knowledge, and representation of communities of interest. ISAC member terms are limited to two (2) years from their date of appointment to ISAC. Following completion of their first term, an ISAC member may request consideration for reappointment (see How to Nominate section below); however, reappointment is NOT guaranteed.

ISAC will hold approximately one or two in-person or virtual meetings per year. Between meetings, ISAC members are expected to participate in committee work via web-based meetings, teleconferences, and email exchanges. Members of the ISAC and its subcommittees serve without pay. However, while away from their homes or regular places of business in the performance of services of the ISAC, members may be reimbursed for travel expenses, including per diem in lieu of subsistence, in the same manner as persons employed intermittently in the government service, as authorized by 5 U.S.C. 5703. Employees of the Federal Government ARE NOT eligible for nomination or appointment to ISAC.

Individuals who are federally registered lobbyists are ineligible to serve on all FACA and non-FACA boards, committees, or councils in an individual capacity. The term “individual capacity” refers to individuals who are appointed to exercise their own individual best judgment on behalf of the government, such as when they are designated Special Government Employees, rather than being appointed to represent a particular interest.

As appropriate, certain ISAC members may be appointed as special Government employees (SGEs). Please be aware that applicants selected to serve as SGEs will be required, prior to appointment, to file a Confidential Financial Disclosure Report, to avoid involvement in real or apparent conflicts of interest. Applicants can access a copy of the Confidential Financial Disclosure Report at: https://www.oge.gov/Web/OGE.nsf/0/2026049D943E0C34852585B6005A23CE/$FILE/OGE%20Form%20450%20Sep%202023%20accessible.pdf?open.

Additionally, after appointment, members appointed as SGEs will be required to meet applicable financial disclosure and ethics training requirements. Please contact (202) 208-7960 or DOI_Ethics@sol.doi.gov with any questions about the ethics requirements for members appointed as SGEs.

How to Nominate:

Nomination packets should include a resume that provides an adequate description of the nominee's qualifications, which specifically relate to the criteria stated in this notice (see Membership Criteria section, para. 1), Included content should enable the Department of the Interior to evaluate the nominee's potential to meet the membership requirements of the Committee. To enable the Department of the Interior to contact a potential member, all nomination packets must include, at a minimum, the nominee's name and a valid email address. Nominees are strongly encouraged to include supporting letters from employers, associations, professional organizations, and/or other organizations that indicate support for the nominee by a meaningful constituency. Nomination packets should be no more than twelve pages.

In addition to submitting the nomination packet as described, current ISAC members seeking reappointment must also provide details of their accomplishments and contributions which support their selection for a second term. Again, reappointment is NOT guaranteed.

All nominations must designate which stakeholder group or community the nominee will represent (see Membership Criteria above, for stakeholder groups and required qualifications). All required documents and any letters of support must be submitted in a SINGLE nomination package. Incomplete packages, packages missing the nominee's contact information, or those with documents submitted separately WILL NOT be considered.

Nominations must be received no later than April 29, 2024. Electronic nominations packages are preferred and should be sent to invasive_species@ios.doi.gov. As necessary, hard copy nominations can be sent to Stanley W. Burgiel, Executive Director, National Invasive Species Council (OS/NISC), Regular Mail: 1849 C Street NW, (Mailstop 3530), Washington, DC, 20240.

Authority: 5 U.S.C. ch. 10.

Stanley W. Burgiel,
Executive Director, National Invasive Species Council.

[FR Doc. 2024-03974 Filed 2-26-24; 8:45 am]

BILLING CODE 4334-63-P